DEPARTMENT OF THE INTERIOR

National Park Service

[NPS-NER-FOMR-23042; PPNENELA00, PFLEMEM82.XY0000]

Boundary Revision at Fort Monroe National Monument

AGENCY: National Park Service, Interior.

ACTION: Notification of boundary revision.

SUMMARY: The boundary of Fort Monroe National Monument is modified to include 44 acres of land, more or less, located in the City of Hampton, Virginia, consisting of two parcels immediately adjacent to the boundary of Fort Monroe National Monument. Subsequent to the proposed boundary revision, the United States will acquire the lands by donation from the Commonwealth of Virginia.

DATES: The effective date of this boundary revision is June 16, 2017.

ADDRESSES: The map depicting this boundary revision is available for inspection at the following locations: National Park Service, Land Resources Program Center, Northeast Region, New England Office, 115 John Street, 5th Floor, Lowell, Massachusetts 01852, at (978) 970-5262 and National Park Service, Department of the Interior, 1849 C Street NW., Washington, DC 20240.

FOR FURTHER INFORMATION CONTACT: Deputy Realty Officer Jennifer Cherry, National Park Service, Land Resources Program Center, Northeast Region, New England Office, 115 John Street, 5th Floor, Lowell, Massachusetts 01852, at (978) 970-5262.

SUPPLEMENTARY INFORMATION: Notice is hereby given that, pursuant to 54 U.S.C. 100506, the boundary of Fort Monroe National Monument is modified to include 44 acres of land, more or less, identified as: Wherry Quarters addition Fee area of 40 acres of land, more or less, and Easement area of 4 acres of land, more or less. These lands are located in the City of Hampton, Virginia, immediately adjacent to the boundary of Fort Monroe National Monument. The boundary revision is depicted on Map No. 250/133082, dated June 9, 2016.

Specifically, 54 U.S.C. 100506 provides that, after notifying the House Committee on Natural Resources and the Senate Committee on Energy and Natural Resources, the Secretary of the Interior is authorized to make this boundary revision upon publication of notice in the Federal Register. The Committees have been notified of this boundary revision. This boundary revision and subsequent acquisition will ensure preservation and protection of Fort Monroe's scenic and historic resources.

Dated: June 8, 2017.
Jonathan Meade,
Deputy Regional Director, Northeast Region.

[FR Doc. 2017-12485 Filed 6-15-17; 8:45 am]

BILLING CODE 4312-52-P